DEPARTMENT OF HEALTH AND HUMAN SERVICES

Centers for Disease Control and Prevention

[Docket No. CDC-2019-0112]

Priority Topics for the Community Preventive Services Task Force (CPSTF); Request for Information

AGENCY: Centers for Disease Control and Prevention (CDC), Department of Health and Human Services (HHS).

ACTION: Request for information.

SUMMARY: The Centers for Disease Control and Prevention (CDC) in the Department of Health and Human Services (HHS) announces the opening of a docket to obtain public comment to identify topics of public health importance that will form the basis of Community Preventive Services Task Force (CPSTF) evidence-based recommendations. CDC will use this information to support the CPSTF in its selection of priority topics to guide its work over the next five years. This docket will provide the opportunity to expand the current body of knowledge and identify important evidence gaps.

DATES: Written comments must be received on or before January 23, 2020.

ADDRESSES: You may submit comments, identified by Docket No. CDC-2019-0112, by any of the following methods:

• Federal eRulemaking Portal: http://www.regulations.gov. Follow the instructions for submitting comments.

• Mail: Julie Zajac, Centers for Disease Control and Prevention, Office of the Associate Director for Policy and Strategy, Community Guide Office, 1600 Clifton Road NE, Mail Stop V25-5, Atlanta, GA 30329.

Instructions: All submissions received must include the agency name and Docket Number. All relevant comments received will be posted without change to http://regulations.gov, including any personal information provided. For access to the docket to read background documents or comments received, go to http://www.regulations.gov.

FOR FURTHER INFORMATION CONTACT: Julie Zajac MPH, Community Guide Office, Office of the Associate Director for Policy and Strategy, Centers for Disease Control and Prevention, 1600 Clifton Road NE, Mail Stop V25-5, Atlanta, GA 30329. Phone: 404-498-1827; Email: cpstf@cdc.gov.

SUPPLEMENTARY INFORMATION:

Public Participation

Interested persons or organizations are invited to participate by submitting written views, recommendations, and data. In addition, CDC invites comments specifically on the following questions:

1. What public health topics should be prioritized for CPSTF systematic reviews assessing the effectiveness and economic merits of public health programs, services, and other interventions?

2. What is the rationale for choosing these topics?

3. What are examples of published studies on interventions within these topics?

Possible domains to consider in answering these questions include (but are not limited to):

• Burden of disease and preventability

• Presence of important health disparities

• Alignment with national efforts (e.g., Healthy People 2020 or 2030)

• Ability to provide users with an adequate menu of options for addressing the health topic (i.e., recommendations or findings for multiple interventions within the same topic)

• Balance across public health topics

• Complementary work of other bodies that provide guidance or recommendations on addressing health issues (e.g., U.S. Preventive Services Task Force, Advisory Committee on Immunization Practices). Specific citations or websites that support suggested topics, rationale, or demonstrate available evidence would be helpful. Please feel free to respond to any or all of the questions.

Please note that comments received, including attachments and other supporting materials, are part of the public record and are subject to public disclosure. Comments will be posted on https://www.regulations.gov. Therefore, do not include any information in your comment or supporting materials that you consider confidential or inappropriate for public disclosure. Note that personal information such as name, contact information, or other information that identifies an individual appearing in the body of submitted comments will be on public display. CDC will review all submissions and may choose to redact or withhold submissions containing private or proprietary information such as Social Security numbers, medical information, inappropriate language, or duplicate/near duplicate examples of a mass-mail campaign.

Previous Areas of Focus: The CPSTF conducted the previous prioritization process in 2015 and identified the following list of topics to guide its work:

• Cardiovascular Disease Prevention and Control

• Diabetes Prevention and Control

• Environmental Health

• Injury Prevention

• Mental Health

• Obesity Prevention and Control (includes Nutrition)

• Older Adult Health

• Physical Activity

• Sleep Health

• Social Determinants of Health

• Substance Abuse (e.g., Prescription Drug Overdose)

• Violence Prevention

Background

When communities need to know how to protect and improve their population's health, they turn to The Community Guide, a collection of evidence-based recommendations and findings from the CPSTF. The CPSTF makes evidence-based recommendations about the effectiveness and economic merits of public health programs, services, and other interventions used in real-world settings—such as communities, worksites, schools, faith-based organizations, military bases, public health clinics and departments, and integrated healthcare systems. Systematic reviews are conducted in accordance with the highest international standards, using a transparent and replicable methodology that accounts for the complexities of real-world public health interventions. CPSTF recommendations are based on systematic reviews, which help make sense of large bodies of scientific literature by applying the scientific process to summarize evidence about the effectiveness of particular approaches for addressing a public health problem. CDC provides administrative, scientific, and technical support for the CPSTF.

The CPSTF periodically updates its priority topics so that its recommendations are responsive to changes in evidence, burden of disease, changing epidemiology, and changes in how interventions are delivered (e.g., use of technology). The CPSTF uses a multi-stage process to identify and prioritize topics. A prioritization committee seeks input from its members and liaison organizations, subject matter experts, public health authorities, the public, and other stakeholders. The topic areas identified are then ranked and prioritized by the full CPSTF using established criteria.

The criteria established by the CPSTF (such as the domains listed above) are then applied to each of the identified topics and presented to the full CPSTF for its discussion, expert assessment, and arrival at a final set of priorities.

CDC welcomes input to this docket from a diverse range of perspectives. The input will inform CDC's support to the CPSTF in its work to select priority topics and will improve the credibility and transparency of the process.

Dated: November 27, 2019.
Sandra Cashman,
Executive Secretary, Centers for Disease Control and Prevention.

[FR Doc. 2019-26092 Filed 12-2-19; 8:45 am]

BILLING CODE 4163-18-P